DEPARTMENT OF COMMERCE

National Oceanic and Atmospheric Administration

50 CFR Part 679

[I.D. 053001D]

Groundfish Fisheries of the Bering Sea and Aleutian Islands Area and the Gulf of Alaska, King and Tanner Crab Fisheries in the Bering Sea/Aleutian Islands, Scallop and Salmon Fisheries off the Coast of Alaska

AGENCY: National Marine Fisheries Service (NMFS), National Oceanic and Atmospheric Administration (NOAA), Commerce.

ACTION: Notice of intent to prepare a supplemental environmental impact statement (SEIS); request for written comments; notice of scoping meetings.

SUMMARY: NMFS announces its intent to prepare an SEIS in accordance with the National Environmental Policy Act of 1969 (NEPA) for the essential fish habitat (EFH) components of the following fishery management plans (FMPs): Groundfish Fishery of the Bering Sea and Aleutian Islands Area; Groundfish of the Gulf of Alaska; Bering Sea/Aleutian Islands King and Tanner Crabs; Scallop Fishery Off Alaska; and Salmon Fisheries in the EEZ Off the Coast of Alaska. The proposed action to be addressed in the SEIS is the development of the mandatory EFH provisions of the FMPs. The scope of the analysis will address the required EFH components of the FMPs as described in section 303(a)(7) of the Magnuson-Stevens Fishery Conservation and Management Act (Magnuson-Stevens Act). NMFS will hold public scoping meetings and accept written comments to determine the issues of concern and the appropriate range of management alternatives to be addressed in the SEIS to describe and identify EFH and potential Habitat Area of Particular Concern (HAPC) designations, to minimize to the extent practicable the adverse effects of fishing on EFH, and to identify other actions to encourage the conservation and enhancement of EFH.

DATES: Written comments will be accepted through July 21, 2001. The first public scoping meeting will be held on Monday, June 4, 2001, in Kodiak, AK. See SUPPLEMENTARY INFORMATION for dates, times, and locations of additional public scoping meetings.

ADDRESSES: Written comments should be sent to P. Michael Payne, Assistant Regional Administrator, Alaska Region, NMFS, P.O. Box 21668, Juneau, AK 99802. Comments may be sent via facsimile (fax) to (907) 586-7012. NMFS will not accept comments by e-mail or Internet. See SUPPLEMENTARY INFORMATION for dates, times, and locations of public scoping meetings.

FOR FURTHER INFORMATION CONTACT: Cindy Hartmann, EFH Coordinator, Juneau, AK, (907) 586-7235.

SUPPLEMENTARY INFORMATION: Amendments to the Magnuson-Stevens Act in 1996 set forth new mandates for NMFS and Regional Fishery Management Councils (Regional Councils) to identify and protect important marine and anadromous fish habitat. The Regional Councils, with assistance from NMFS, were required to delineate EFH for all managed species. EFH is defined in the Magnuson-Stevens Act as “...those waters and substrate necessary to fish for spawning, breeding, feeding, or growth to maturity.” In response to the amended Magnuson-Stevens Act and based on guidelines for the EFH contents of FMPs (50 CFR part 600 subpart J), the North Pacific Fishery Management Council (Council) completed preparation of the following five EFH FMP amendments in 1998: Amendment 55 to the Fishery Management Plan for the Groundfish Fishery of the Bering Sea and Aleutian Islands Area; Amendment 55 to the FMP for Groundfish of the Gulf of Alaska; Amendment 8 to the FMP for the King and Tanner Crab Fisheries in the Bering Sea/Aleutian Islands; Amendment 5 to the FMP for Scallop Fisheries Off Alaska; and Amendment 5 to the FMP for the Salmon Fisheries in the EEZ Off the Coast of Alaska (Amendments 55/55/8/5/5). These EFH FMP amendments were reviewed and approved by the Secretary of Commerce and took effect on January 20, 1999 (64 FR 20216). These FMP amendments identified EFH for over 130 managed species.

In June 1999, several environmental and fishing groups challenged the scope and substance of the environmental assessment (EA) prepared for Amendments 55/55/8/5/5 (American Oceans Campaign et al. v. Daley, Civ. No. 99-982 (D.D.C.)). On September 14, 2000, the U.S. District Court issued an opinion finding the EA insufficient in scope and analytical substance and requiring NMFS to prepare an analysis that is legally sufficient under NEPA. Therefore, NMFS is re-evaluating the EFH components originally developed as part of Amendments 55/55/8/5/5. The SEIS will supersede the EA previously prepared in support of Amendments 55/55/8/5/5.

The proposed action to be addressed in the SEIS is the development of the mandatory EFH provisions of the affected FMPs as described in section 303(a)(7) of the Magnuson-Stevens Act and based on the guidance in 50 CFR part 600 subpart J. The following three types of actions will be specifically analyzed: (1) Identify and describe EFH for managed species; (2) identify HAPCs within EFH; and (3) minimize, to the extent practicable, adverse effects on EFH caused by fishing. The scope of the new SEIS will cover all of the required EFH components of FMPs. NMFS will consider the need to revise the previously approved EFH provisions of these FMPs based on any available new scientific information, and the revised analysis of EFH alternatives.

The EA prepared for Amendments 55/55/8/5/5 covered all five FMPs. For this new NEPA analysis, a single SEIS may be prepared that analyzes the required EFH components for all five FMPs or multiple SEISs may be prepared that analyze the required EFH components for individual FMPs.

Alternatives

NMFS will evaluate a range of alternatives for developing mandatory EFH provisions for the Council’s five FMPs. NMFS is seeking information from the public through the scoping process on the range of alternatives to be analyzed and on the environmental, social, and economic issues to consider in the analysis. Alternatives will be developed based on significant issues raised during the scoping process.

Alternatives for Designation of EFH

Alternatives for the designation of EFH may include those identified in the EA for Amendments 55/55/8/5/5, plus additional alternatives. Alternatives already identified include: (1) No action (no designation of EFH); (2) EFH is all habitat within a general distribution for a species life stage; and (3) EFH is a subset of all habitat within a general distribution, e.g., areas of known concentration. Other possible EFH alternatives could include a habitat-based approach, a core habitat approach (comparable to critical habitat for endangered species), and an ecosystem approach that may address prey and reproductive associations.

Alternatives for Designation of HAPCs

HAPCs are subsets of EFH. HAPCs are those areas of special importance that may require additional protection from adverse effects. HAPCs are defined on the basis of the ecological importance, sensitivity to human-induced environmental degradation, stress to the habitat from development activities, and rarity of the habitat. Amendments 55/55/8/5/5 identified 3 types of habitat as HAPCs (living substrates in shallow water, living substrates in deep waters, and freshwater areas used by anadromous fish) but did not map or designate specific areas as HAPCs. In August 1998, the Council received 6 proposals concerning HAPCs. The proposals included the following: (1) Identifying where living substrate in shallow water and deep water occur in the BSAI and GOA; (2) adding seamounts/pinnacles, ice edge, shelf break, and biologically consolidated fine-grained sediments as types of HAPC; (3) developing a procedure to assess potential adverse impacts to HAPCs; (4) nominating Prince William Sound black hole, Chirikov Basin, and Kodiak red king crab areas as HAPCs; (5) protecting important habitat for C. bairdi crab by establishing a no-fishing zone in a specified area of the Bering Sea; and (6) establishing the Kodiak red king crab areas as an HAPC. These proposals and/or others may be investigated as part of the EFH SEIS.

An HAPC EA prepared by Council staff in 2000 considered protection measures for corals and sponges. Specific areas were proposed for protection and stakeholder meetings were held. Currently, no specific actions from these meetings are being evaluated. An HAPC alternative to protect corals and sponges is possible in the SEIS.

Alternatives for Effects of Fishing on EFH

The alternatives analysis will identify a range of approaches that could be taken to minimize any potential adverse effects of fishing on EFH. The range of alternatives may include measures such as banning specific gear types, closing areas to fishing, rotational closure areas, protected areas or other measures. A no-action alternative will be included as an alternative. The range of alternatives will be developed based on comments NMFS receives during the scoping process.

Public Involvement

NMFS will work with the Council throughout the development of the SEIS. The Council has formed an EFH Oversight Committee that will help keep the Council an integral part of the NEPA process for EFH. Council staff will assist in the development of the SEIS. The public will be able to provide oral and written comments on EFH at Council meetings.

A principal objective of the scoping and public involvement process is to identify a reasonable range of management alternatives that, with adequate analysis, will delineate critical issues and provide a clear basis for both distinguishing between those alternatives and selecting a preferred alternative. NMFS is seeking written comments on the scope of issues that should be addressed in the SEIS. Also, NMFS invites specific comment on the appropriate extent of EFH and HAPCs for Council-managed species and on the scientific basis for EFH and HAPC designations. NMFS also solicits any new information related to the impacts of fishing and non-fishing activities on EFH and HAPCs for fishery resources managed under the Council’s FMPs and possible management measures designed to mitigate adverse fishing impacts.

Dates and Times for Public Scoping Meetings

The public is invited to assist NMFS and the Council in developing the scope of alternatives to be analyzed. The first public scoping meeting will be held on: Monday, June 4, 2001, from 7-9 p.m., at the Fishery Industrial Technology Center, 118 Trident Way, Kodiak, AK.

Additional scoping meetings will be held in other communities as follows:

1. Friday, June 8, 2001, Unalaska, City Hall, Council Chambers, 245 Raven Way, 4 to 8 p.m., Unalaska, AK;

2. Monday, June 11, 2001, Anchorage, Z. J. Loussac Library, public conference room, level 1, 3600 Denali Street, 2:30 to 6:30 p.m., Anchorage, AK;

3. Tuesday, June 19, 2001, Seattle, Alaska Fisheries Science Center, room 2079, 7600 Sand Point Way NE, 1:30 to 5:30 p.m., Seattle, WA;

4. Wednesday, June 20, 2001, Juneau, Federal Building, room 445, 709 W. 9th Street, 2 to 5:30 p.m. and Centennial Hall Convention Center, Egan Room, 101 Egan Drive, 7 to 9 p.m., Juneau, AK; and

5. Thursday, June 21, 2001, Sitka, Harrigan Centennial Hall, Maksoutoff Room, 330 Harbor Drive, 2 to 5:30 and 7 to 9 p.m., Sitka, AK.

Special Accommodations

These meetings are physically accessible to people with disabilities. Requests for sign language interpretation or other auxiliary aids should be directed to Cindy Hartmann (see ADDRESSES), (907) 586-7585, at least 5 days prior to the meeting date.

Authority: 16 U.S.C. 1801 et. seq.

Dated: May 31, 2001.
Bruce C. Morehead,
Acting Director, Office of Sustainable Fisheries, National Marine Fisheries Service.

[FR Doc. 01-14258 Filed 6-1-01; 4:52 pm]

BILLING CODE 3510-22-S